DEPARTMENT OF LABOR

Office of the Secretary

Submission for OMB Review; Comment Request

October 27, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on (202) 693-4122 (this is not a toll-free number) or e-mail: mills.ira@dol.gov.

Comments should be sent to Office of Information and Regulatory Affairs, Attn: OMB Desk Officer for DOL, Office of Management and Budget, Room 10235, Washington, DC 20503 (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Reporting and Performance Standards System for Migrant and Seasonal Farmworker Programs under Title I, Section 167 of the Workforce Investment Act.

OMB Number: 1205-0425.

Frequency: Quarterly; Annually.

Affected Public: State, Local, or Tribal Government; Not-for-profit institutions.

Number of Respondents: 53.

Number of Annual Responses: 42,833.

Required section 167 activity | NFJP form No. | Number of respondents | Responses per year | Total responses | Hours per response | Total burden hours
Plan Narrative |  | 53 | 1 | 53 | 20 | 1,060
Data Record |  | 53 | ¹ | 42,250 | 2 | 84,500
Report from Data Record |  | 53 | 4 | 212 | 1 | 212
Budget Information Summary | ETA 9093 | 53 | 1 | 53 | 15 | 795
Program Planning Summary | ETA 9094 | 53 | 1 | 53 | 16 | 848
Program Status Summary | ETA 9095 | 53 | 4 | 212 | 7 | 1,484
Totals |  | 53 | 11 | 42,833 | 61 | 88,899
¹On occasion.

Total burden hours: 88,899.

Total annualized capital/startup costs: $0.

Total annual costs (operating/maintaining systems or purchasing services): $0.

Description: This collection of information relates to the operation of employment and training programs for Migrant and Seasonal Farmworkers under Title I, section 167 of the Workforce Investment Act (WIA). It also contains the basis of the new performance standards system for WIA section 167 grantees. The burden estimates for this collection include the Adult Services Program authorized under section 167.

Ira L. Mills,
Departmental Clearance Officer.

[FR Doc. 04-24657 Filed 11-3-04; 8:45 am]

BILLING CODE 4510-30-P